SMALL BUSINESS ADMINISTRATION

[Declaration of Disaster #3483]

State of West Virginia; Amendment # 2

In accordance with a notice received from the Department of Homeland Security—Federal Emergency Management Agency, effective April 4, 2003, the above numbered declaration is hereby amended to include Braxton, Harrison, Lewis, Logan, Monroe and Putnam Counties in the State of West Virginia as disaster areas due to damages caused by a severe winter storm, record snow, heavy rains, flooding and landslides occurring on February 16, 2003, and continuing through March 28, 2003.

In addition, applications for economic injury loans from small businesses located in the contiguous counties of Doddridge, Marion, Taylor and Wetzel in the State of West Virginia; and Craig County in the Commonwealth of Virginia may be filed until the specified date at the previously designated location. All other counties contiguous to the above named primary county have been previously declared.

All other information remains the same, i.e., the deadline for filing applications for physical damage is May 13, 2003, and for economic injury the deadline is December 15, 2003.

(Catalog of Federal Domestic Assistance Program Nos. 59002 and 59008).
Dated: April 7, 2003.
Herbert L. Mitchell,
Associate Administrator for Disaster Assistance.

[FR Doc. 03-9056 Filed 4-11-03; 8:45 am]

BILLING CODE 8025-01-P